Executive Order 14340 of August 25, 2025

Measures To End Cashless Bail and Enforce the Law in the District of Columbia

By the authority vested in me as President by the Constitution and the laws of the United States of America, it is hereby ordered:

Section 1. Purpose and Policy. As stated in Executive Order 14333 of August 11, 2025 (Declaring a Crime Emergency in the District of Columbia), there is a crime emergency in Washington, D.C., that is impeding the operations and responsibilities of the Federal Government. The District of Columbia government's pretrial release policies, which include prohibiting cash bail, contribute to the disgraceful conditions referenced in the aforementioned Executive Order, as law enforcement must arrest the same individuals multiple times, and dangerous criminals are sometimes rapidly released. This leaves such criminals free to endanger American citizens visiting our Nation's capital, Federal workers discharging their duties to our Nation, and citizens of the District of Columbia trying to live their lives safely. It is therefore the policy of my Administration that all necessary and lawful measures be taken to end cashless bail policies and ensure the pretrial detention of any criminal suspect who threatens public safety.

Sec. 2. Ending Unwarranted Pretrial Release in the District of Columbia. (a) To prevent the release of dangerous suspects based on cashless bail policies, relevant Federal law enforcement agencies and officials who are members of the D.C. Safe and Beautiful Task Force established in Executive Order 14252 of March 27, 2025 (Making the District of Columbia Safe and Beautiful), shall work to ensure that arrestees in the District of Columbia are held in Federal custody to the fullest extent permissible under applicable law, and shall pursue Federal charges and pretrial detention for such arrestees whenever possible, consistent with applicable law, to ensure that criminal defendants who pose a threat to public safety are not released from custody prior to trial.

(b) Further, the Attorney General shall review the Metropolitan Police Department (MPD) General Orders and other policies and practices of the MPD to identify those that may result in pretrial release of criminal defendants who pose a threat to public safety and, consistent with section 740 of the District of Columbia Self-Government and Governmental Reorganization Act (Public Law 93-198), shall request that the Mayor of the District of Columbia make such updates and modifications to such orders and policies as the Attorney General determines would be necessary to address the crime emergency and help to ensure public order and safety.

Sec. 3. Measures to End Cashless Bail in the District of Columbia. (a) The Attorney General shall determine whether the District of Columbia continues to maintain a policy or practice of prohibiting cash bail as a potential condition of pretrial release from jail for crimes prosecuted under the Code of the District of Columbia in the Superior Court of the District of Columbia where the arrestee poses a clear threat to public safety and order. Such cases include violent or sexual offenses such as rape, murder, carjacking, and assault, as well as property offenses such as burglary, looting, and vandalism. The Attorney General shall update her determination if the District of Columbia changes its cashless bail policies or practices.

(b) If the Attorney General determines that the District of Columbia continues to maintain a policy or practice of prohibiting cash bail, the head of each executive department or agency (agency), in coordination with the Director of the Office of Management and Budget, shall identify appropriate actions to press the District of Columbia to change its policies with respect to cashless bail. Such actions may include Federal funding decisions or the provision of Federal services or approvals by agency heads, as well as actions the Attorney General identifies as necessary and appropriate because of the emergency conditions based upon which section 740 of the District of Columbia Home Rule Act has been invoked. The head of each agency shall undertake any such actions he or she deems appropriate, consistent with applicable law.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

August 25, 2025.

[FR Doc. 2025-16615

Filed 8-27-25; 11:15 am]

Billing code 4410-CW-P